DEPARTMENT OF TRANSPORTATION

Office of the Secretary

Complaint Forms Concerning Accessibility of Airline Service

AGENCY: Office of the Secretary, DOT.

ACTION: Notice and request for comments.

SUMMARY: In accordance with the Paperwork Reduction Act of 1995 (44 U.S.C. Chapter 35, as amended), this notice announces the Department of Transportation's (DOT) intention to request the extension of a previously approved collection.

DATES: Comments on this notice must be received by April 22, 2002, and be sent to: Attention Blane A. Workie, Office of the Assistant General Counsel for Aviation Enforcement and Proceedings (Enforcement Office).

FOR FURTHER INFORMATION CONTACT: Blane A. Workie, Attorney, Office of the Assistant General Counsel for Aviation Enforcement and Proceedings (Enforcement Office), Room 4116, Department of Transportation, 400 Seventh Street, SW., Washington, DC 20590, (202) 366-9342.

SUPPLEMENTARY INFORMATION:

Office of the Secretary

Title: Complaint forms: Complaint Concerning Accessibility of Airline Service; Complaint Alleging Discrimination by an Airline Based on Race, Ethnicity, National Origin, Religion, Sex, or Sexual Orientation.

OMB Number: 2105-0543.

Type of Request: Extension of emergency approval of collection.

Abstract: The Department of Transportation's Office of the Assistant General Counsel for Aviation Enforcement and Proceedings (Enforcement Office) and its Aviation Consumer Protection Division (ACPD) are requesting extension of a collection which received an emergency clearance approval from OMB on July 18, 2001, to continue displaying two types of complaint forms on the DOT internet site. The complaint forms provide information to make the public aware of their rights. One complaint form concerns accessibility problems experienced by passengers with disabilities and the other complaint form concerns alleged discrimination on the basis of race, ethnicity, national origin, religion, sex or sexual orientation.

Consumers voluntarily submit complaints to the Department regarding accessibility of airline service and alleged discrimination by an airline by completing the complaint forms, or by letter or email. Many consumers prefer completing the complaint forms to drafting a letter or email because it is easier and tends to take less time. The information collected from the complaint forms will be used by the Department of Transportation to institute an administrative action or investigation against an air carrier. An additional benefit of the complaint forms is that the forms specifically ask questions about the type of information that is needed to conduct an investigation.

Respondents: Airline Passengers.

Estimated Number of Respondents: 38.

Estimated Total Burden on Respondents: 19 hours.

Affected Public: Airline customers who file complaints alleging discrimination by the airline because of disability or based on race, ethnicity, national origin, religion, sex or sexual orientation.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

All responses to this notice, will be summarized and included in the request for OMB approval. All comments will also become a matter of public record.

Issued in Washington, DC, on February 12, 2002.
Samuel Podberesky,
Assistant General Counsel for Aviation Enforcement and Proceedings.

[FR Doc. 02-3931 Filed 2-15-02; 8:45 am]

BILLING CODE 4910-62-P